DEPARTMENT OF DEFENSE

Department of the Army; Corps of Engineers

Intent To Prepare a Draft Environmental Impact Statement/Environmental Impact Report (DEIS/EIR) for the Arroyo Seco Ecosystem Restoration Study, Los Angeles County, CA

AGENCY: Department of the Army, U.S. Army Corps of Engineers, DOD.

ACTION: Notice of Intent.

SUMMARY: Pursuant to the National Environmental Policy Act of 1969, as amended, the U.S. Army Corps of Engineers, Los Angeles District (Corps) in coordination with the non-Federal sponsor, Los Angeles County Department of Public Works (LACDPW), intends to prepare an Integrated Feasibility Study and Environmental Impact Statement/Environmental Impact Report for the Arroyo Seco Environmental Restoration Study. The purpose of the study is to evaluate opportunities for the restoration of a natural channel, aquatic and riparian habitat as well as associated upland habitat creek dynamics, restoration of sustainable aquatic habitat, and revitalization of riverine and associated upland habitat and constituent species, while maintaining the cultural and aesthetic quality of the Arroyo Seco.

The Arroyo Seco (“dry wash”) heads in the San Gabriel Mountains north of downtown Los Angeles and flows south through the cities of Pasadena, South Pasadena, and Los Angeles before reaching its confluence with the Los Angeles River. The study area is an approximately eleven (11) -mile reach of the Arroyo Seco channel in Los Angeles County, CA. The flood control channel is maintained by the Los Angeles County Department of Public Works. The study area extends from the Angeles National Forest border through the unincorporated area of Altadena, and cities of La Cañada-Flintridge, Pasadena, South Pasadena, and Los Angeles to approximately 0.5 miles from the confluence with the Los Angeles River.

DATES: Provide comments by November 24, 2014.

ADDRESSES: Submit comments to: Deborah Lamb, Ecosystem Planning Section, U.S. Army Corps of Engineers, Los Angeles District, 915 Wilshire Blvd., Los Angeles, CA 90017-3401.

FOR FURTHER INFORMATION CONTACT: For additional information on dates, times and locations for scoping meetings, please contact Deborah Lamb (see ADDRESSES), or at (213) 452-3798 or email at: Deborah.L.Lamb@usace.army.mil.

SUPPLEMENTARY INFORMATION: 1. Authority. The proposed study is authorized by Senate Resolution approved on June 25, 1969, which reads as follows:

Resolved by the Committee on Public Works of the United States Senate, that the Board of Engineers for Rivers and Harbors, created under Section 3 of the River and Harbor Act, approved June 13, 1902, be, and is hereby requested to review the report of the Chief of Engineers on the Los Angeles and San Gabriel Rivers and Ballona Creek, California, published as House Document Numbered 838, Seventy-sixth Congress, and other pertinent reports, with a view to determining whether any modifications contained herein are advisable at the present time, in the resources in the Los Angeles County Drainage Area.

2. Background Information. The Arroyo Seco watershed has historically played a significant role in the ecology of the Los Angeles Basin because of its diverse habitat features and as a major tributary to the Los Angeles River. The Arroyo Seco once provided a corridor for wildlife to pass from the lower watershed to the upper watershed in the San Gabriel Mountains. During the last 150 years the lower and middle watershed have been extensively developed and urbanized. The Arroyo Seco is crossed and bounded by multiple-lane freeways including the Arroyo Seco Parkway (historic Route 66). Despite urbanization, the watershed still reflects the rich history of the Arts and Crafts movement that was an integral part of the Arroyo Seco watershed. From the Angeles National Forest at the top of the watershed down to the Lummis Home and Heritage Square in the lower Arroyo Seco, the natural beauty of the Arroyo Seco was both inspiration and part of an international arts movement.

3. Alternatives. The EIS will address the No Action Alternative and an array of alternatives that meet the purpose and need of the project. Alternatives may include measures that remove channel invert concrete, replace existing channel walls, restore vegetation, create stream sinuosity through relocation, creation of fish habitat, and recreation features.

4. Issues To Be Addressed. The Integrated Feasibility Study/Draft EIS/EIR will address environmental issues concerning the alternatives proposed. Issues will be identified based on public input during the scoping process and during the preparation of the Integrated Feasibility Study/Draft EIS/EIR. Issues initially identified as potentially significant without implementation of mitigation measures include, but are not limited to; water quality, air quality, socioeconomics and environmental justice, land use, recreation, visual and aesthetic resources, traffic and transportation, historical and cultural resources, vegetation and wildlife, and special status species impacts during project construction.

5. Public Involvement.

a. A public scoping meeting will be held on the 29th of October 2014 at the Los Angeles County Department of Public Works located at 900 S. Fremont Ave., Alhambra, CA 91803 from 6:00 p.m. to 8:30 p.m. The purpose of the public scoping meeting will be to present information to the public regarding the array of alternatives proposed that may be evaluated in the draft EIS/EIR, receive public comments, and solicit input regarding environmental issues of concern to the public. The public scoping meeting place, date, and time will be advertised in advance in local newspapers and meeting announcement letters will be sent to interested parties. In addition, the Corps will coordinate with applicable regulatory and resource agencies including but not limited to: the State Historic Preservation Officer, US Fish and Wildlife Service, Regional Water Quality Review Board, US Environmental Protection Agency, the Los Angeles County Department of Public Works, the City of Pasadena, the City of South Pasadena, City of La Canada-Flintridge, the City of Altadena, the City of Los Angeles, and other local agencies.

b. Participation of affected Federal, state and local resource agencies, Native American groups and concerned interest groups/individuals is encouraged in the scoping process. Public participation will be especially important in defining the scope of analysis in the Integrated Feasibility Study/Draft EIS/EIR, identifying significant environmental issues and providing useful information from published and unpublished data, personal knowledge of relevant issues, and recommending mitigation measures associated with the proposed action.

c. Those interested in providing information or data relevant to the environmental or social impacts that should be included or considered in the environmental analysis can furnish this information by writing to the points of contact indicated above or by attending the public scoping meeting. A mailing list will also be established so pertinent data may be distributed to interested parties.

d. Questions or comments regarding the Integrated Arroyo Seco Environmental Feasibility Study and Environmental Impact Statement/Environmental Impact Report (EIS/EIR), including requests to be placed on the mailing list, may be submitted by mail to Ms. Deborah Lamb, U.S. Army Corps of Engineers, Los Angeles District, CESPL-PD-RL, 915 Wilshire Blvd., Los Angeles, CA 90017-3401; or by email to Deborah.L.Lamb@usace.army.mil.

Brenda S. Bowen,
Army Federal Register Liaison Officer.

[FR Doc. 2014-25288 Filed 10-22-14; 8:45 am]

BILLING CODE 3710-58-P